DEPARTMENT OF HOMELAND SECURITY

Transportation Security Administration

[Docket No. TSA-2006-24191]

Intent to Request Renewal From OMB of One Current Public Collection of Information: Transportation Worker Identification Credential Program

AGENCY: Transportation Security Administration, DHS.

ACTION: Notice.

SUMMARY: The Transportation Security Administration (TSA) invites public comment on one currently approved information collection requirement abstracted below that we will submit to the Office of Management and Budget (OMB) for renewal in compliance with the Paperwork Reduction Act. OMB approved the collection of information for six months and TSA now seeks the maximum three-year approval. The collection involves the submission of identifying and other information by individuals applying for a TWIC and a customer satisfaction survey.

DATES: Send your comments by February 1, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0046; Transportation Worker Identification Credential (TWIC) Program. TSA developed the Transportation Worker Identification Credential (TWIC) program to mitigate threats and vulnerabilities in the national transportation system. The TWIC is a biometric credential that can be used as an identification tool for workers in various segments of the national transportation system. Before issuing an individual a credential, TSA performs a security threat assessment, which requires it to collect certain personal information such as name, address, etc.

The program implements authorities set forth in the Aviation and Transportation Security Act (ATSA) (Pub. L. 107-71; Nov. 19, 2002; sec. 106), the Maritime Transportation Security Act of 2002 (MTSA) (Pub. L. 107-295; Nov. 25, 2002; sec. 102), and the Safe, Accountable, Flexible, Efficient Transportation Equity Act—A Legacy for Users (SAFETEA-LU) (Pub. L. 109-59; Aug. 10, 2005; sec. 7105), codified at 49 U.S.C. 5103a(g). TSA and the U.S. Coast Guard (Coast Guard) issued a joint Notice of Proposed Rulemaking (NPRM) on May 22, 2006. 71 FR 29396. After consideration of public comment on the NPRM, TSA issued a joint Final Rule (FR) with the Coast Guard on January 25, 2007 applicable to the maritime transportation sector that would require this information collection. 72 FR 3492.

Data is collected during an optional pre-enrollment step or during the enrollment session at an enrollment center. Among the records checks required by MTSA are: (1) A criminal history records check; (2) a check of intelligence databases; and (3) an alien status check. TSA also intends to conduct a survey to capture worker overall satisfaction with the enrollment process. The current estimated annualized reporting burden is 1,289,816 hours and the estimated annualized cost burden is $47,971,669.

Issued in Arlington, Virginia, on November 27, 2007.
Fran Lozito,
Director, Business Management Office, Operational Process and Technology.

[FR Doc. E7-23388 Filed 11-30-07; 8:45 am]

BILLING CODE 9110-05-P